DEPARTMENT OF AGRICULTURE

Food Safety and Inspection Service

[Docket No. 2007-0025]

Codex Alimentarius Commission: Seventh Session of the Codex ad hoc Intergovernmental Task Force on Foods Derived from Biotechnology

AGENCY: Office of the Under Secretary for Food Safety, Food Safety and Inspection Service, Department of Agriculture.

ACTION: Notice of public meeting.

SUMMARY: The Office of the Under Secretary for Food Safety, United States Department of Agriculture (USDA), and the Food and Drug Administration (FDA) are sponsoring a public meeting on September 6, 2007, to discuss the agenda items coming before the Seventh Session of the Codex ad hoc Intergovernmental Task Force on Foods Derived from Biotechnology (FBT) and to present draft U.S. positions on the agenda items. The Seventh Session of the FBT will be held in Chiba, Japan, September 24-28, 2007. The Under Secretary and FDA recognize the importance of providing interested parties the opportunity to comment on the agenda items that will be discussed at this forthcoming session of the FBT.

DATES: The public meeting is scheduled for Thursday, September 6, 2007, from 2 p.m. to 4 p.m.

ADDRESSES: The public meeting will be held in Room 0161 South Agriculture Building (Basement), 1400 Independence Avenue, SW., Washington, DC (please enter at Wing One). Documents related to the Seventh Session of the FBT will be accessible via the World Wide Web at the following address: http://www.codexalimentarius.net/current.asp.

For Further Information About the Seventh Session of the FBT Contact: U.S. Delegate, Dr. Eric Flamm, Senior Advisor, Office of the Commissioner, Food and Drug Administration (HF-23), Parklawn Building, Rockville, MD 20857, Phone (301) 827-0591, Fax: (301) 827-4774, E-mail: eric.flamm@fda.hhs.gov.

For Further Information About the Public Meeting Contact: Edith Kennard, Staff Officer, U.S. Codex Office, Food Safety and Inspection Service (FSIS), Room 4861, South Building, 1400 Independence Avenue, SW., Washington, DC 20250, Phone: (202) 720-5261, Fax: (202) 720-3157, E-mail: edith.kennard@fsis.usda.gov. A call-in number can be provided upon request.

SUPPLEMENTARY INFORMATION:

Background

The Codex Alimentarius (Codex) was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The Codex ad hoc Intergovernmental Task Force on Foods Derived from Biotechnology was established by the 23rd Session of the Codex Alimentarius Commission in 1999 to elaborate standards, guidelines, or other principles related to foods derived from biotechnology. The Task Force completed its mandates within its four-year timeframe and was dissolved by the 26th Session of the Commission. The 27th Session re-established the Task Force for another four-year period. The Task Force is hosted by the government of Japan.

Issues To Be Discussed at the Public Meeting

The following items on the agenda for the Seventh Session of the FBT will be discussed during the public meeting:

• Matters Referred to the Committee from Other Codex Bodies.

• Review of the Work by International Intergovernmental Organizations Related to Foods Derived from Biotechnology.

• Summary of the Report of the FAO/WHO Expert. Consultation on the Safety Assessment of Foods Derived from Recombinant-DNA Animals.

• Proposed Draft Guideline for the Conduct of Food Safety Assessment of Foods Derived from Recombinant-DNA Animals.

• Proposed Draft Annex to the Guideline for the Conduct of Food Safety Assessment of Foods Derived from Recombinant-DNA Plants: Food Safety Assessment of Foods Derived from Recombinant-DNA plants Modified for Nutritional or Health Benefits.

• Proposed Draft Annex to the Guideline for the Conduct of Food Safety Assessment of Foods Derived from Recombinant-DNA Plants with Low-level Presence of Recombinant-DNA Plant Material.

Each issue listed will be fully described in documents distributed, or to be distributed, by the Japanese Secretariat to the Meeting. Members of the public may access copies of these documents at http://www.codexalimentarius.net/current.asp.

Public Meeting

At the September 6, 2007, public meeting, draft U.S. positions on these agenda items will be described and discussed, and attendees will have the opportunity to pose questions and offer comments. Written comments may be offered at the meeting or sent to the U.S. Delegate of the FBT, Dr. Eric Flamm, at eric.flamm@fda.hhs.gov. Written comments should state that they relate to activities of the Seventh Session of the FBT.

Additional Public Notification

Public awareness of all segments of rulemaking and policy development is important. Consequently, in an effort to ensure that minorities, women, and persons with disabilities are aware of this notice, FSIS will announce it on-line through the FSIS Web page located at http://www.fsis.usda.gov/regulations/2007_Notices_Index/. FSIS also will make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on: August 2, 2007.
F. Edward Scarbrough,
U.S. Manager for Codex Alimentarius.

[FR Doc. E7-15396 Filed 8-7-07; 8:45 am]

BILLING CODE 3410-DM-P